DEPARTMENT OF TRANSPORTATION

Federal Motor Carrier Safety Administration

[Docket No. FMCSA-2017-0267]

Agency Information Collection Activities; Renewal of an Approved Information Collection: Motor Carrier Records Change Form

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The purpose of this ICR titled “Motor Carrier Records Change Form,” is to more efficiently collect information the Office of Registration and Safety Information (MC-RS) requires to process name and address changes and reinstatements of operating authority.

DATES: We must receive your comments on or before January 2, 2018.

ADDRESSES: You may submit comments identified by Federal Docket Management System (FDMS) Docket Number FMCSA-2017-0267 using any of the following methods:

• Federal eRulemaking Portal: http://www.regulations.gov. Follow the online instructions for submitting comments.

• Fax: 1-202-493-2251.

• Mail: Docket Operations; U.S. Department of Transportation, 1200 New Jersey Avenue SE., West Building, Ground Floor, Room W12-140, 20590-0001.

• Hand Delivery or Courier: West Building, Ground Floor, Room W12-140, 1200 New Jersey Avenue SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008. (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Jeff Secrist, Division Chief, East-South Division, FMCSA Office of Registration and Safety Information, FMCSA, West Building 6th Floor, 1200 New Jersey Avenue SE., Washington, DC 20590. Telephone: (202) 385-2367; email jeff.secrist@dot.gov.

SUPPLEMENTARY INFORMATION:

Background: FMCSA registers for-hire motor carriers under 49 U.S.C. 13902, surface freight forwarders under 49 U.S.C. 13903, and property brokers under 49 U.S.C. 13904. Each registration is effective from the date specified under 49 U.S.C. 13905(c). 49 CFR part 365.413 states for-hire motor carriers, brokers and freight forwarders are required to notify MC-RS when they change the name or form of business. Currently, the name change request can be filed online through the Licensing and Insurance (L&I) Web site, or companies can fax or mail a letter requesting either name or address changes. Carriers can also request reinstatement of a revoked operating authority either via fax or online via the L&I Web site. About 39% of name change, address change, and reinstatement requests are received by mail; 38% are filed online; and 23% are filed by faxing a request letter to MC-RS. The information collected is then entered in the L&I database by FMCSA staff. This enables FMCSA to maintain up-to-date records so that the agency can recognize the entity in question in case of enforcement actions or other procedures required to ensure that the carrier is fit, willing and able to provide for-hire transportation services, and so that entities whose authority has been revoked can resume operation if they are not otherwise blocked from doing so. This multi-purpose form simplifies the process of gathering the information needed to process the entities' requests in a timely manner, with the least amount of effort for all parties involved. This multi-purpose form is filed by registrants on a voluntary, as-needed basis. This multi-purpose form is on the FMCSA Web site so entities could access and print/fax/email the form to MC-RS.

The form prompts users to report the following data points (whichever are relevant to their records change request):

1. What are the legal/doing business as (dba) names of the entity/representative?

2. What is the contact information of entity/representatives (phone number, address, fax number, email address)?

3. What are the requested changes to name or address of entity?

4. What is the docket MC/MX/FX number of the entity?

5. What is the US DOT number of the entity?

6. Is there any change in ownership, management or control of the entity?

7. What kind of changes is the entity making to the company?

8. Which authority does the entity/representative wish to reinstate, motor carrier or broker?

9. Does the entity/representative authorize the fee for the name change or reinstatement?

10. Does the entity/representative authorize the reinstatement of operating authority or name/address change?

11. What is the credit card information (name, number, expiration date, address, date) for the card used to pay the fee?

Title: Motor Carrier Records Change Form.

OMB Control Number: 2126-0060.

Type of Request: Renewal collection.

Respondents: For-hire motor carriers, brokers and freight forwarders.

Estimated Number of Respondents: 44,900.

Estimated Time per Response: 15 minutes per response.

Expiration Date: July 31, 2018.

Frequency of Response: On occasion.

Estimated Total Annual Burden: 11,225 hours [44,900 annual responses × 0.25 hours = 11,225].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority delegated in 49 CFR 1.87 on: October 24, 2017.
G. Kelly Regal,
Associate Administrator, Office of Research and Information Technology.

[FR Doc. 2017-23693 Filed 10-30-17; 8:45 am]

BILLING CODE 4910-EX-P